ENVIRONMENTAL PROTECTION AGENCY

[ER-FRL-6662-6]

Environmental Impacts Statements; Notice of Availability

Responsible Agency: Office of Federal Activities, General Information (202) 564-7167 or http://www.epa.gov/compliance/nepa/.

Weekly receipt of Environmental Impact Statements filed April 14, 2005, through April 15, 2005, pursuant to 40 CFR 1506.9.

EIS No. 20050152, Final EIS, AFS, MT, Snow Talon Fire Salvage Project, Proposes to Salvage Harvest Trees Burned in the Fire, Helena National Forest, Lincoln Ranger District, Lewis and Clark County, MT, Wait Period Ends: 05/23/2005, Contact: Dan Seifert 406-362-4265.

EIS No. 20050153, Final EIS, FHW, UT, Southern Corridor Construction, I-15 at Reference Post 2 in St. George to UT-9 near Hurricane, Funding, Right-of-Way Grant and U.S. Army COE Section 404 Permit Issuance, St. George, Washington and Hurricane, Washington County, UT, Wait Period Ends: 05/23/2005, Contact: Gregory Punske 801-963-0182.

EIS No. 20050154, Draft EIS, COE, DC, Washington Aqueduct's Project, Proposed Waster Treatment Residuals Management Process, NPDES Permit, Dalecarlia and McMillan Water Treatment Plants, Potomac River, Washington, DC, Comment Period Ends: 06/06/2005, Contact: Michael Peterson 202-764-0025.

EIS No. 20050155, Final EIS, AFS, OR, Plentybob Ecosystem Restoration Project, Restoration Activities Include: Prescribed Fire, Timber Harvest, Road Obliteration, Hardwood Planting and Noxious Weed Treatment, Implementation, Walla Walla Ranger District, Umatilla National Forest, Umatilla County, OR, Wait Period Ends: 05/23/2005, Contact: Glen Westlund 509-522-6009.

EIS No. 20050156, Final EIS, IBR, CA, Folsom Dam Road Access Restriction Project, Control Access to Folsom Dam, City of Folsom, CA, Wait Period Ends: 05/23/2005, Contact: Robert Schroeder 916-989-7274.

EIS No. 20050157, Draft EIS, AFS, MT, Middle East Fork Hazardous Fuel Reduction Project, Implementation of Three Alternatives, Bitterroot National Forest, Sula Ranger District, Ravalli County, MT, Comment Period Ends: 06/06/2005, Contact: Tracy Hollingshead 406-821-3201.

EIS No. 20050158, Draft EIS, AFS, ID, Aspen Range Timber Sale and Vegetation Treatment Project, Proposal to Treat Forested and Nonforested Vegetation, Caribou-Targhee National Forest, Soda Springs Ranger District, Caribou County, ID, Comment Period Ends: 06/06/2005, Contact: Doug Heyrend 208-547-4356.

EIS No. 20050159, Final EIS, NIH, MD, National Institutes of Health (NIH) Master Plan 2003 Update, National Institutes of Health Main Campus—Bethesda, MD, Montgomery County, MD, Wait Period Ends: 05/23/2005, Contact: Ron Wilson 301-496-5037.

EIS No. 20050160, Draft EIS, AFS, ID, Three Basins Timber Sale Project, Proposal to Treat 760 Acres of Mature Forest, Implementation, Caribou-Targhee National Forest, Montpellier Ranger District, Bearlake and Caribou Counties, ID, Comment Period Ends: 06/06/2005, Contact: Ken Klingenberg 208-847-0375.

EIS No. 20050161, Final EIS, AFS, OR, Rogue River-Siskiyou National Forest, Special Use Permits for Outfitter and Guide Operations on the Lower Rogue and Lower Rogue and Lower Illinois Rivers, Gold Beach Ranger District, Rogue River-Siskiyou National Forest, Curry County, OR, Wait Period Ends: 05/23/2005, John Borton 541-247-3640.

EIS No. 20050162, Draft EIS, CGD, 00, Pearl Crossing Liquefied Natural Gas (LNG) Deepwater Port Terminal and Pipeline Project, Proposes to Construct a Liquefied Natural Gas (LNG) Receiving, Storage, and Regasification Facility, Gulf of Mexico, Cameron and Calcasieu Parishes, LA and San Patricio County, TX, Comment Period Ends: 06/07/2005, Contact: Lt. Ken Kusano 202-267-1184.

EIS No. 20050163, Draft Supplement, STB, SD, Powder River Basin Expansion Project, New Information on SEA's Independent Analyses Four Issues Remanded by the “8” Circuit Court of Appeals, Finance Docket No. 33407—Dakota, Minnesota, Eastern Railroad, SD, WY and MN, Due: 06/06/2005, Contact: Victoria Rutson 202-565-1545.

EIS No. 20050164, Final EIS, FRC, TX, Vista del Sol Liquefied Natural Gas (LNG) Terminal Project, Construct, Install and Operate and LNG Terminal and Natural Gas Pipeline Facilities, Vista del Sol LNG Terminal LP and Vista del Sol Pipeline LP, TX, Wait Period Ends: 05/23/2005, Contact: Joyce Turner 202-502-8584.

Dated: April 20, 2005.
Robert W. Hargrove,
Director, NEPA Compliance Division, Office of Federal Activities.

[FR Doc. 05-8114 Filed 4-21-05; 8:45 am]

BILLING CODE 6560-50-P